SECURITIES AND EXCHANGE COMMISSION

[File No. 500-1]

Poseidis, Inc.; Order of Suspension of Trading

April 14, 2009.

It appears to the Securities and Exchange Commission that there is a lack of current and accurate information concerning the securities of Poseidis, Inc. (“Poseidis”) because it has not filed a periodic report since its 10-QSB/A for the quarterly period ended May 31, 2006, filed on November 21, 2007.

The Commission is of the opinion that the public interest and the protection of investors require a suspension of trading in the securities of Poseidis.

Therefore, it is ordered, pursuant to Section 12(k) of the Securities Exchange Act of 1934, that trading in Poseidis securities is suspended for the period from 9:30 a.m. EDT on April 14, 2009, through 11:59 p.m. EDT on April 27, 2009.

By the Commission.
Elizabeth M. Murphy,
Secretary.

[FR Doc. E9-8829 Filed 4-14-09; 4:15 pm]

BILLING CODE 8010-01-P